TENNESSEE VALLEY AUTHORITY

Charter Renewal of the Regional Energy Resource Council

AGENCY: Tennessee Valley Authority (TVA).

ACTION: Renewal of federal advisory committee.

SUMMARY: Pursuant to the Federal Advisory Committee Act (FACA), the TVA Board of Directors has renewed the Regional Energy Resource Council (RERC) charter for an additional two-year period.

FOR FURTHER INFORMATION CONTACT: Bekim Haliti, bhaliti@tva.gov, 931-349-1894.

SUPPLEMENTARY INFORMATION: Pursuant to FACA and its implementing regulations, and following consultation with the Committee Management Secretariat, General Services Administration (GSA) in accordance with 41 CFR 102-3.60(a), notice is hereby given that the RERC has been renewed for a two-year period. The RERC will provide advice to TVA on its issues affecting energy resource activities. The RERC was originally established in 2013 to advise TVA on its energy resource activities and the priority to be placed among competing objectives and values. It has been determined that the RERC continues to be needed to provide an additional mechanism for public input regarding energy resource issues. The charter can be found at www.tva.com/rerc.

Dated: July 17, 2023.
Melanie Farrell,
Vice President, External Stakeholders and Regulatory Oversight, Tennessee Valley Authority.

[FR Doc. 2023-16054 Filed 7-27-23; 8:45 am]

BILLING CODE 8120-08-P